DEPARTMENT OF AGRICULTURE

Forest Service

Humboldt-Toiyabe National Forest; Clark Counties, Nevada; Lee Canyon Notice of Availability

AGENCY: Forest Service, USDA.

ACTION: Notice of Availability of the Draft Environmental Impact Statement for the Lee Canyon Ski Area Master Development Plan Phase I and Public Comment Period for the Associated Forest Plan Amendment.

SUMMARY: The Humboldt-Toiyabe National Forest is issuing this notice to advise the public of the 45-day public comment period for the Draft Environmental Impact Statement (EIS) for the Lee Canyon Ski Area Master Development Plan Phase I (Lee Canyon Project) and the addition of a proposed project-specific amendment to the Toiyabe National Forest Land and Resource Management Plan (Forest Plan) for the Proposed Action and alternatives other than the No Action alternative. The Notice of Intent for the Lee Canyon Project was published in the Federal Register on March 23, 2017 (82 FR 14865). Today's notice has been published to ensure all persons and entities interested in the Lee Canyon Project are aware of the addition of the proposed amendment and to identify the Forest Service planning rule provisions likely to be directly related and, therefore, applicable to the Forest Plan amendment. The public is advised that during the 45 day comment period for the Lee Canyon Project Draft EIS, comments may also be submitted regarding the substantive requirements that are likely to be directly related to the amendment and the scope and scale to which the substantive requirements would apply. Comments will be considered in the preparation of the Final EIS and Draft Record of Decision for the Lee Canyon Project.

DATES: The comment period ends 45 days after today's Notice of Availability or 45 days after the Environmental Protection Agency's Notice of Availability is published in the Federal Register, whichever is later. All relevant comments received during the public comment period related to the substantive requirements that would likely be directly related to the proposed Forest Plan amendment and the scope and scale of the proposed Forest Plan amendment will be considered in the preparation of the Final EIS and Draft Record of Decision (ROD).

ADDRESSES: Comments may be submitted by any one of the following methods:

• Electronic Submissions: Comments can be filed electronically at: leecanyoneis@fs.fed.us. Electronic comments must be submitted as part of the email message or as an attachment in plain text (.txt), Microsoft Word (.doc), rich text format (.rtf), or portable document format (.pdf). Emails submitted to addresses other than the one listed above, or in formats other than those listed or containing viruses, will be rejected.

• Mail: Written, specific comments must be submitted to Donn Christiansen, Area Manager, Spring Mountains National Recreation Area, 701 Torrey Pines Dr., Las Vegas, NV 89130.

Instructions: Comments sent by any other method, to any other address or individual, or received after the end of the comment period may not be considered by the Forest. All comments received are part of the public record and will generally be posted for public viewing without change. All personal identifying information (e.g., name, address, etc.), confidential business information, or otherwise sensitive information submitted voluntarily by the sender will be publicly accessible.

FOR FURTHER INFORMATION CONTACT: Chris Linehan, Interdisciplinary Team Leader, at (702) 515-5401, or via email at clinehan@fs.fed.us. Individuals who use telecommunication devices for the deaf (TDD) may call the Federal Information Relay Service (FIRS) at 1-800-877-8339 between 8 a.m. and 8 p.m., Eastern Time, Monday through Friday. Information about the Lee Canyon Project may be found on the Forest Service website at http://www.fs.usda.gov/project/?project=50649.

SUPPLEMENTARY INFORMATION: The purpose and need for the proposed Lee Canyon Project, as described in the Notice of Intent, is to address the length of time since the resort's facilities have been upgraded and emerging trends in winter recreation. Specific details of these needs are described in Draft EIS. The purpose and need for the proposed plan amendment is to ensure consistency between the Forest Plan and the proposed Lee Canyon Project. As described in the Draft EIS, the need was identified for exempting the Lee Canyon Project from the following Standards of the 1996 Spring Mountains National Recreation Area (SMNRA) General Management Plan (GMP) (Amendment five of the Forest Plan):

SMNRA-wide Standards and Guidelines: (GMP Standard 0.31) New roads, administrative facilities, and developed recreation sites other than low-impact facilities (trails, trailhead parking, signs, restrooms, etc.) will be outside a 100-yard buffer zone around known Clokey's eggvetch and rough angelica populations or potential habitat, and outside biodiversity hotspots (defined as areas of particular diversity or sensitivity).

The need for this Forest Plan amendment is that in the Lee Canyon Proposed Action new service roads, and ski area facilities would occur within the 100-yard buffer zone established around known Clokey's eggvetch and rough angelica populations or potential habitat. These areas have been thoroughly inventoried for these species and none were found within the project foot print. This project-specific Forest Plan amendment will allow development within the 100-yard buffer zones for these two-species established in the Standard GMP 0.31 (p. 18) to allow for construction of service roads and ski area facilities.

Under the Proposed Action and other action alternatives, Standard GMP 0.31 would be amended to allow new service roads and developed recreation sites to be placed within the 100-yard buffer zone around known Clokey's eggvetch and rough angelica populations or potential habitat, and within biodiversity hotspots in the Lee Canyon Special Use Permit Boundary.

Management Area 11: (11.57) Allow limited expansion of ski area in Lee Canyon and enhancement of skiing opportunities and facilities within the scope of an approved master development plan and under the following constraints:

1. Expansion occurs within the existing sub-basin.

2. Does not impact any threatened, endangered, or sensitive species or species of concern or its habitat.

3. Expansion is commensurate with development of additional parking in the lower Lee Canyon area and shuttle services.

4. Expansion incorporates defensible space design and fire safe facilities.

5. Where consistent with other standards and guidelines.

The need for this Forest Plan amendment is that the Proposed Action and other action alternatives include development of ski runs, mountain coasters, zip lines, mountain bike trails, parking areas, and access roads within the Lee Canyon Ski Area permitted boundary. As the Mount Charleston Blue Butterfly was listed as a endangered species in 2015 and the designated critical habitat for the butterfly includes portions of the Lee Canyon Ski Area, Constraint #2 from the standard cannot be met. The Proposed Action and other action alternatives also include the addition of a 500 vehicle parking lot at the ski area to accommodate increased visitor use without the development of additional parking in lower Lee Canyon or shuttle services. The project-specifc Forest Plan Amendment would exempt the project from the requirements under Constraint #2 and Constraint #3.

The substantive requirements of the 2012 Planning Rule (36 CFR part 219) likely to be directly related and, therefore, applicable to the Forest Plan amendment for the Lee Canyon Project are in 36 CFR 219.9(b) regarding threatened and endangered species and 36 CFR 219.10(a)(1), (3), and (7) regarding integrated resource management for multiple use. The scope and scale to which these substantive requirements would apply are the scope and scale of the Lee Canyon Project. The amendment would not apply to any other projects or activities.

Responsible Official

The Responsible Official for the Lee Canyon Project and the Forest Plan amendment is William A. Dunkelberger, Forest Supervisor, Humboldt-Toiyabe National Forest Supervisor's Office, 1200 Franklin Way, Sparks, Nevada 89431, phone (775) 355-5310.

Decision To Be Made

In consideration of the stated purpose and need and the analysis of environmental effects documented in this EIS, the Responsible Official will review the proposed action and alternatives in order to make the following decisions:

• Whether to authorize the proposed action or an alternative, including the required no-action alternative, all or in part;

• What design criteria and mitigation measures to require as a condition of the authorization;

• What evaluation methods and documentation to require for monitoring project implementation and mitigation effectiveness; and

• Whether to amend the Forest Plan to exempt the project from Standard GMP 0.31 and from Constraints #2 and #3 of Standard GMP Management Area 11.57.

Administrative Review

The Lee Canyon Project and the Forest Plan amendment will be subject to objection under 36 CFR part 218.

Dated: May 7, 2018.
Chris French,
Associate Deputy Chief, National Forest System.

[FR Doc. 2018-17730 Filed 8-16-18; 8:45 am]

BILLING CODE 3411-15-P